FEDERAL COMMUNICATIONS COMMISSION

[OMB 3060-0812]

Information Collection Approved by the Office of Management and Budget (OMB)

AGENCY: Federal Communications Commission.

ACTION: Notice.

SUMMARY: The Federal Communications Commission (FCC) has received Office of Management and Budget (OMB) approval for a revision of a currently approved information collection pursuant to the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Nicole Ongele, Office of the Managing Director, at (202) 418-2991, or email: Nicole.Ongele@fcc.gov.

SUPPLEMENTARY INFORMATION: The total annual reporting burdens and costs for the respondents are as follows:

OMB Control Number: 3060-0812.

OMB Approval Date: December 4, 2017.

OMB Expiration Date: December 31, 2020.

Title: Regulatory Fee True-Up, Waiver or Exemption.

Form Nos.: N/A.

Respondents: Business or other for-profit and Not-for-profit institutions.

Number of Respondents and Responses: 19,674 respondents; 19,774 responses.

Estimated Time per Response: 0.25 hours-1 hour.

Frequency of Response: Annual, on occasion and one-time reporting requirements; recordkeeping requirement.

Total Annual Burden: 10,016 hours.

Total Annual Cost: No Cost.

Obligation To Respond: Required to obtain or retain benefits. Statutory authority for this information collection is contained in 47 U.S.C. 158 and 47 U.S.C. 159.

Privacy Act Impact Assessment: No impact(s).

Nature and Extent of Confidentiality: Licensees or regulatees concerned about disclosure of sensitive information in any submissions to the Commission may request confidential treatment pursuant to 47 CFR 0.459 of the Commission's rules.

Needs and Uses: This information collection consolidates and revises the previously approved information collection requirements under OMB Control Numbers 3060-0655 and 3060-1064 into 3060-0812. The purpose of the information collection requirements are to:

(a) The Commission uses the “true-up” feedback received from regulatees to adjust the regulatee's fee obligations accordingly.

(b) The Commission will use the information that is submitted in support of requests for a waiver or deferral of the payment of an application fee and the waiver, deferral, or reduction of an annual regulatory fee to determine if the applicant has met the statutory and regulatory legal standards to warrant relief.

(c) The Commission will use the information that is submitted in support of requests for an exemption of the payment of an application fee to facilitate the statutory provision that non-profit entities be exempt from payment of regulatory fees; and facilitate the FCC's ability to audit regulatory fee payment compliance.

Federal Communications Commission.
Marlene H. Dortch,
Secretary, Office of the Secretary.

[FR Doc. 2018-01408 Filed 1-25-18; 8:45 am]

BILLING CODE 6712-01-P